ENVIRONMENTAL PROTECTION AGENCY

40 CFR Part 52

[EPA-R01-OAR-2009-0449; A-1-FRL-9797-2 ]

Approval and Promulgation of Air Quality Implementation Plans; Connecticut; Reasonably Available Control Technology for the 1997 8-Hour Ozone Standard

AGENCY: Environmental Protection Agency (EPA).

ACTION: Final rule.

SUMMARY: EPA is approving State Implementation Plan (SIP) revisions submitted by the State of Connecticut. These SIP revisions consist of a demonstration that Connecticut meets the requirements of reasonably available control technology (RACT) for oxides of nitrogen (NOX) and volatile organic compounds (VOCs) set forth by the Clean Air Act with respect to the 1997 8-hour ozone standard. Additionally, we are approving three single source orders. This action is being taken in accordance with the Clean Air Act.

DATES: This rule is effective on July 29, 2013.

ADDRESSES: EPA has established a docket for this action under Docket Identification No. EPA-R01-OAR-2009-0449. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

Copies of the documents relevant to this action are also available for public inspection during normal business hours, by appointment at the Bureau of Air Management, Department of Energy and Environmental Protection, State Office Building, 79 Elm Street, Hartford, CT 06106-1630.

FOR FURTHER INFORMATION CONTACT: Bob McConnell, Air Quality Planning Unit, U.S. Environmental Protection Agency, EPA New England Regional Office, 5 Post Office Square, Suite 100 (mail code: OEP05-2), Boston, MA 02109-3912, telephone number (617) 918-1046, fax number (617) 918-0046, email mcconnell.robert@epa.gov.

SUPPLEMENTARY INFORMATION: Throughout this document whenever “we,” “us,” or “our” is used, we mean EPA.

Organization of this document: The following outline is provided to aid in locating information in this preamble.

I. Background and Purpose

II. Connecticut's Reasonably Available Control Technology Certification

III. VOC RACT Orders

IV. Final Action

V. Statutory and Executive Order Reviews

I. Background and Purpose

On January 23, 2013 (78 FR 4800), EPA published a Notice of Proposed Rulemaking (NPR) for the State of Connecticut. That action proposed approval of a State Implementation Plan (SIP) revision request submitted by the Connecticut Department of Environmental Protection on December 8, 2006, consisting of information documenting how Connecticut complied with the reasonably available control technology requirements for the 1997 8-hour ozone standard.¹ Additionally, our January 23, 2013 NPR proposed approval of three single source orders establishing reasonably available control technology for controlling volatile organic compound emissions that Connecticut submitted to EPA on July 20, 2007.

¹ The Connecticut submittal was made to address RACT for the 1997 8-hour ozone standard and does not address the 0.075 parts per million 2008 ozone standard.

II. Connecticut's Reasonably Available Control Technology Certification

On December 8, 2006, the Connecticut Department of Environmental Protection, which was subsequently reorganized and is currently known as the Connecticut Department of Energy and Environmental Protection (CT DEEP), submitted a demonstration that its regulatory framework for stationary sources meets the criteria for RACT as defined in EPA's Phase 2 Implementation rule.² The state held a public hearing on the RACT program on October 18, 2006.

² See 70 FR 71612, November 29, 2005.

The state's submittal identifies the specific control measures that have been previously adopted to control emissions from major sources of VOC emissions, reaffirms negative declarations for some control technique guideline (CTG) categories, and describes updates made to two existing rules to strengthen them so that they will continue to represent VOC RACT. Connecticut notes that sections 22a-174-20 and 22a-174-32 of the Regulations of Connecticut State Agencies (RSA) are the principal regulations that apply to stationary sources of VOC emissions. Connecticut's submittal makes negative declarations for the following CTG sectors:

1. Automobile coating;

2. Large petroleum dry cleaners;

3. Large appliance coating;

4. Natural gas and gas processing plants;

5. Flat wood paneling coating; and

6. Control of VOC leaks from petroleum refineries.

Connecticut's submittal addresses NOX emissions as well as VOC emissions. In particular, Connecticut identified Regulations of Connecticut State Agencies (RCSA) section 22a-174-22, “Control of Nitrogen Oxide Emissions,” as its primary NOX RACT regulation. In addition, RCSA section 22a-174-38 regulates NOX emissions from Connecticut's six municipal waste combustors (MWCs), which constitute roughly thirty percent of the state's annual NOX emissions from major NOX sources. Connecticut indicates that section 22a-174-38 is as stringent as the maximum achievable control technology (MACT) requirements EPA promulgated in 2006, and that this rule thus represents RACT for MWCs in Connecticut.

EPA has reviewed Connecticut's determination that it has adopted VOC and NOX control regulations for stationary sources that constitute RACT, and determined that the Connecticut regulations cited above constitute RACT for purposes of the 1997 8-hour ozone standard.

Additionally, EPA has determined that Connecticut's two ozone nonattainment areas attained the 1997 8-hour ozone standard by their attainment date, based on quality assured air monitoring data. These determinations were published on August 31, 2010 (75 FR 53219) for the Greater Connecticut area, and on June 18, 2012 (77 FR 36163) for the New York City area. The improvements in air quality represented by these clean data determinations were brought about, in part, by the RACT program implemented by Connecticut.

Other specific requirements of Connecticut's RACT certification and the rationale for our action are explained in the NPR and will not be restated here.

EPA received one comment, from the Sierra Club, on our proposal to approve Connecticut's RACT certification. The Sierra Club argues that it is “impermissible for EPA to allow [CT DEEP] to rely in any part on the Clean Air Interstate Rule (`CAIR') to meet Reasonably Available Control Technology (`RACT') requirements for nitrogen oxides (`NOX').”

In response to the Sierra Club's comment, we are clarifying the basis for our determination that Connecticut has adopted regulations that satisfactorily address the NOX RACT requirement for a moderate nonattainment area under the 1997 8-hour ozone standard. As set forth in detail below, EPA did not propose to do, and is not now taking final action to do, what the Sierra Club argues would be impermissible. EPA is not allowing CT DEEP to “rely in any part on CAIR” to meet NOX RACT requirements. However, we are supplying this clarification for two reasons. First, the basis for our determination (which has not changed from the proposal to this final action) differs slightly from the explanation that CT DEEP itself set forth in the narrative portion of its SIP submission. Second, we now recognize that the explanation of the basis for that determination that we provided in the proposal was potentially subject to a misreading, which we now dispel.

EPA agrees with the commenter that RACT is a mandatory requirement. EPA also acknowledges that in NRDC v. EPA, 571 F.3d 1245 (D.C. Cir. 2009), the court held that “the RACT requirement calls for reductions in emissions from sources in the area” and that, therefore, “participation in the NOX SIP Call could constitute RACT only if participation entailed at least RACT-level reductions in emissions from sources within the nonattainment area.” Id. at 1256. In other words, compliance with an unrestricted interstate emissions trading program, such as the NOX SIP Call, could not be said to satisfy a RACT requirement absent an analysis demonstrating that any such program achieves “greater emissions reduction in a nonattainment area than would be achieved if RACT-level controls were installed in that area.” Id. at 1258.

In this action, EPA is finalizing our approval of Connecticut's RACT SIP. This action is based on EPA's determination that CT DEEP has adopted regulations that satisfactorily address the applicable NOX RACT requirement. Specifically, EPA's determination that the SIP satisfies the applicable RACT requirement for electric generating units (EGUs) and other major sources of NOX emissions, is based on our determination that the two sections of the Regulations of Connecticut State Agencies—sections 22a-174-22 (Control of Nitrogen Oxides Emissions), and 22a-174-38 (Municipal Waste Combustors)—require all major sources of NOX in the state, including EGUs, to have RACT level controls. These regulations are independent of Connecticut's current and past regulations that allow interstate trading, namely Connecticut's CAIR regulation (section 22a-174-22c), and two now-repealed interstate trading programs, sections 22a-174-22b (Post-2002 Nitrogen Oxides (NOX) Budget Program) and 22a-174-22a (NOX Budget Program).

EPA approved sections 22a-174-22 and 22a-174-38 into Connecticut's SIP in 1997 and 2001 respectively. See 62 FR 52016; 66 FR 63311. Moreover, EPA's “Phase 2” implementation rule for the 1997 8-hour ozone standard specifically provided that states could meet the RACT requirement “through a certification that previously required RACT controls represent RACT for 8-hour implementation purposes.” 70 FR 71617. Connecticut's December 8, 2006 submittal did just this, and certified that previously required RACT controls represent RACT for 8-hour implementation purposes:

Connecticut and other states previously designated non-attainment under the 1-hour ozone NAAQS, already have rules in place to reduce emissions of VOC and NOX for attainment purposes. Recognizing that additional controls may only achieve small incremental emission reductions that are not cost effective, the Implementation Rule allows states to review and certify that RACT controls implemented under the 1-hour ozone NAAQS continue to represent RACT under the 8-hour NAAQS. Such a review and certification follows.³

³ 8-Hour Ozone Reasonably Available Control Technology State Implementation Plan Analysis for the State of Connecticut (Final) (Nov. 3, 2006), Document #EPA-R01-OAR-2009-0449-0005, at 7.

Connecticut's analysis then proceeds to enumerate, over the course of five pages, the specific requirements applicable to various categories of sources. In particular, Connecticut's analysis explains that its six municipal waste combustors are regulated by Section 22a-174-38, and that “[a]ny facility in Connecticut that has the potential to emit at least fifty tons per year of NOX” is regulated by Section 22a-174-22. Id. at 11.

It is important to clarify that EPA is not approving any reliance by CT DEEP on the CAIR emission trading programs. In addition, EPA's own determination that CT DEEP has adopted regulations that satisfactorily address the applicable NOX RACT requirement is not based on the CAIR emission trading programs, the Connecticut state regulation (section 22a-174-22c) that requires participation by certain Connecticut sources in those programs, or compliance by sources in Connecticut with those programs. In short, the CAIR programs are irrelevant to EPA's approval of these CT SIP submissions. EPA acknowledges that the SIP submission from Connecticut could be read to suggest that its participation in CAIR satisfies NOX RACT for EGUs. However, we do not interpret Connecticut's submission to rely on this theory, given both Connecticut's introductory statement that its RACT analysis is based on review and submission of previously-adopted RACT controls, and its discussions of those controls (e.g., section 22a-174-22). Moreover, EPA's proposal explained that “EPA has reviewed Connecticut's determination that it has adopted VOC and NOX control regulations for stationary sources that constitute RACT, and determined that the set of regulations cited by the state constitute RACT for purposes of the 1997 8-hour ozone standard. Additionally, we are proposing to approve the three VOC RACT orders submitted by the state on July 20, 2007.” 78 FR 4802. Our proposal then enumerated the specific Connecticut control requirements upon which EPA relied for our proposal to find that Connecticut has satisfied the RACT requirement.⁴ Neither the CAIR trading programs, nor the Connecticut regulation requiring participation by certain Connecticut sources in those programs was identified in this list. Our proposal did mention Connecticut's own references to its CAIR regulation, but only as explanatory notes regarding additional state NOX regulations. See id.

⁴ “Connecticut's submittal documents the state's VOC and NOX control regulations that have been adopted to ensure that RACT level controls are required in the state. These requirements include the following Regulations of Connecticut State Agencies: section 22a-174-20, Control of Organic Compound Emissions; section 22a-174-22, Control of Nitrogen Oxide Emissions; section 22a-174-30, Dispensing of Gasoline/Stage I and Stage II Vapor Recovery; section 22a-174-32, RACT for Organic Compound Emissions; and 22a-174-38, Municipal Waste Combustors,” as well as several single-source orders and updates to existing asphalt paving and solvent metal cleaning regulations. 78 FR 4802.

In general, EPA approval of a state SIP submission does not imply endorsement of every single statement contained in the narrative portion of that submission. However, in the interest of clarity, we specifically note here that EPA is not approving the portions of Connecticut's SIP submission that cite the presumption or determination in the Phase 2 ozone implementation rule that compliance with CAIR could, in certain circumstances, satisfy NOX RACT for EGUs.

Rather, we are approving Connecticut's RACT analysis because we agree with Connecticut's determination that sections 22a-174-22 and 22a-174-38, which were developed under the 1-hour ozone NAAQS to control NOX emissions from major sources, continue to represent RACT for major NOX sources in Connecticut for purposes of the 1997 8-hour ozone standard. In particular, section 22a-174-22 is Connecticut's primary NOX RACT regulation, and it contains requirements applicable to EGUs and other major sources of NOX. A brief summary of this rule is provided below, and additional information can be found within our October 6, 1997 final rule approving the rule into the Connecticut SIP. See 62 FR 52016.

RCSA 22a-174-22, Control of Nitrogen Oxide Emissions

Connecticut's NOX RACT regulation ⁵ contains a combination of NOX emission limitations, performance standards, and compliance options, including provisions for sources to meet emission limitations through intra-state emissions trading (i.e., trading limited exclusively to trading among sources within Connecticut), known in Connecticut as “emissions reduction trading” and generally implemented through source-specific orders.

⁵ The references to section 22a-174-22 in this discussion are to the version which is part of the federal SIP. That version was approved by EPA in 1997 and is available online at http://www.epa.gov/region1/topics/air/sips/sips_ct.html http://www.epa.gov/region1/topics/air/sips/ct/CT_22a_174_22.pdf. Connecticut has since revised this regulation, and thus references to various paragraphs and subsections here may differ slightly from the current state regulation.

Subsection (d) of the rule lists compliance options available to sources. These options are compliance with emission limitations, fuel switching, a 40% emission reduction, source reconstruction, schedule modification, or intra-state emission reduction trading. Requirements for each method of compliance are detailed in subsections (f) through (j).

Subsection (e) establishes emission limits with specific limits for: Turbines; cyclone furnaces; fast-response double-furnace Naval boilers; fluidized-bed combustors; reciprocating engines; waste combustors; fuel burning equipment firing fuels other than gas, oil, or coal; glass melting furnaces; and other sources providing direct heat. Subsection (e) also contains an emission limit for “all other sources” not having a specifically defined emission limitation. The specific RACT limits for all major NOX sources, including EGUs, is shown in Table 1 below. Connecticut's EGUs are required to comply with, at a minimum, the emission limit that corresponds to their particular fuel and unit type shown in Table 1, although for most EGUs Connecticut has mandated via permit condition stricter limits than those found within section 22a-174-22. Table 2 below summarizes the NOX control equipment in place at Connecticut's largest EGUs, along with the emission rates for these units.

Subsection (j) (“Emissions reduction trading”) establishes the requirements for sources complying with subsection (e) emission limitations through intra-state emissions trading. Under subsection (d)(4), CT DEEP must submit any permit or order implementing an intra-state emissions trade under subsection (j) to EPA for approval. See also CAA § 110(i). Therefore, any use of intra-state emissions trading under subsection (j) for compliance with subsection (e) limits would have to be presented to EPA as a new SIP revision, which would be reviewed and processed in a separate regulatory action. See, e.g., 77 FR 71140.

Subsection (k) covers requirements for emission testing and monitoring. Subsection (l) covers recordkeeping and reporting requirements concerning operating hours, fuel usage, NOX emissions, equipment maintenance, continuous emissions monitoring (CEMS) records, and emissions testing information. Sources must retain these records for five years. Subsection (m) contains provisions requiring the submittal of compliance plans for sources subject to the provisions of section 22a-174-22.

Table 1 below summarizes the NOX emission limits within section (e) of section 22a-174-22. The following abbreviations are used in the table: gm/bk hp-hr = grams per brake horsepower-hour; lb/mmBTU = pounds per million British Thermal Units; NA = not applicable; and ppmvd = parts per million volume, dry.

Table 1—NOX Emission Limits From SIP-Approved CT NOX RACT Regulation
Equipment type | Gas | Residual oil | Other oil | Coal
Turbine, 100 mmBTU/hr or greater | 55 ppmvd | NA | 75 ppmvd | NA.
Turbine, less than 100 mmBTU/hr | 0.90 lb/mmBTU | NA | 0.90 lb/mmBTU | NA.
Cyclone furnace | 0.43 lb/mmBTU | 0.43 lb/mmBTU | 0.43 lb/mmBTU | 0.43 lb/mmBTU.
Fast response Naval boilers | 0.20 lb/mmBTU | 0.30 lb/mmBTU | 0.30 lb/mmBTU | 0.30 lb/mmBTU.
Fluidized bed combustor | NA | NA | NA | 0.29 lb/mmBTU.
Reciprocating engines | 2.5 gm/bk hp-hr | NA | 8 gm/bk hp-hr | NA.
Other boilers | 0.20 lb/mmBTU | 0.25 lb/mmBTU | 0.20 lb/mmBTU | 0.38 lb/mmBTU.

Table 2 below provides the NOX control equipment and related information for Connecticut's 10 largest emitting EGUs in 2009. This data is from EPA's Air Markets Program database. Within Table 2, the following abbreviations are used: LNB = Low NOX burners; FGR = Flue gas recirculation; OFA = Over-fired air; SCR = Selective catalytic reduction; and SNCR = Selective non-catalytic reduction.

Table 2—NOX Control Equipment at Connecticut's Ten Largest EGUs.
Facility name | Unit ID | Avg. NOX rate (lb/mmBTU) | NOX Emissions (tons) | Unit type | Fuel (primary) | NOX Controls
Bridgeport Harbor | BHB3 | 0.15 | 838.2 | Tangentially fired | Coal | LNB with OFA
Algonquin Power | GT1 | 0.14 | 259.1 | Combined cycle | Gas | Steam injection
AES Thames | Unit A | 0.06 | 226.3 | Circulating fluidized bed boiler | Coal | Facility closed
AES Thames | Unit B | 0.06 | 214.9 | Circulating fluidized bed boiler | Coal | Facility closed
New Haven Harbor | NHB1 | 0.13 | 115.4 | Tangentially fired | Residual oil | LNB, OFA, FGR
Middletown | 3 | 0.25 | 105.1 | Cyclone boiler | Residual oil | Water injection, SNCR
Bridgeport Energy | BE2 | 0.02 | 74.6 | Combined cycle | Gas | SCR
Bridgeport Energy | BE1 | 0.02 | 71.6 | Combined cycle | Gas | SCR
Middletown | 2 | 0.13 | 66.7 | Dry bottom wall-fired boiler | Residual oil | OFA
Milford Power | CT02 | 0.01 | 48.6 | Combined cycle | Gas | Water injection, SCR

EPA defined RACT as being the lowest emission limitation that a particular source is capable of meeting by the application of control technology that is reasonably available considering technological and economic feasibility. See 44 FR 53762, September 17, 1979. The NOX controls noted within Table 2 have all been demonstrated to be effective at reducing NOX emissions from EGUs, and this is demonstrated by the low NOX emission rates shown within the table. Based on EPA's experience interpreting and applying the RACT standard, we find reasonable Connecticut's determination that the requirements discussed above are consistent with RACT. Consequently, we agree with Connecticut's determination that its already-approved regulations discussed herein impose a RACT level of control on EGUs, and as described elsewhere in this notice, all major sources of NOX. Since our approval of Connecticut's RACT SIP does not rely in any way on CAIR, the remainder of the Sierra Club's comments regarding CAIR are not relevant to this action and we are therefore not specifically addressing the remainder of those comments pertaining to the status of CAIR.

III. VOC RACT Orders

On July 20, 2007, Connecticut submitted VOC RACT orders for the Curtis Packaging Corporation in Newtown, Sumitomo Bakelite North America, Incorporated, located in Manchester, and Cyro Industries in Wallingford. Our January 23, 2013 NPR contains a summary of the RACT requirements established for each facility, and our analysis of these requirements. In summary, we have reviewed these single source VOC RACT orders and agree that they represent a RACT level of control for each facility. Therefore, we are approving these orders into the Connecticut SIP.

Other specific requirements of these three VOC RACT orders and the rationale for our action are explained in the NPR and will not be restated here. No public comments were received on this aspect of our NPR.

IV. Final Action

EPA is approving Connecticut's December 8, 2006 RACT certification for the 1997 8-hour ozone standard, and VOC RACT orders for Cyro Industries, Sumitomo Bakelite North America, and the Curtis Packaging Corporation, as revisions to the Connecticut SIP.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 26, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Volatile organic compounds.

Dated: March 22, 2013.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(101) to read as follows:

§ 52.370 Identification of plan

* * * * *

(c) * * *

(101) Revisions to the State Implementation Plan submitted by the Connecticut Department of Environmental Protection on July 20, 2007, consisting of orders establishing reasonably available control technology for volatile organic compound emissions for Sumitomo Bakelite North America, Cyro Industries, and Curtis Packaging.

(i) Incorporation by reference.

(A) State of Connecticut vs. Sumitomo Bakelite North America, Inc., Consent Order No. 8245, issued as a final order on October 11, 2006.

(B) State of Connecticut and Cyro Industries, Consent Order No. 8268, issued as a final order on February 28, 2007.

(C) State of Connecticut vs. Curtis Packaging Corporation, Consent Order No. 8270, issued as a final order on May 1, 2007.

3. Section 52.375 is amended by revising paragraph (b) to read as follows:

§ 52.375 Certification of no sources.

* * * * *

(b) In its December 8, 2006 submittal to EPA pertaining to reasonably available control technology requirements for the 1997 8-hour ozone standard, the State of Connecticut certified to the satisfaction of EPA that no sources are located in the state that are covered by the following Control Technique Guidelines:

(1) Automobile Coatings;

(2) Large Petroleum Dry Cleaners;

(3) Large Appliance Coating;

(4) Natural Gas and Gas Processing Plants;

(5) Flat Wood Paneling Coatings; and

(6) Control of VOC Leaks from Petroleum Refineries.

4. Section 52.377 is amended by adding paragraph (l) to read as follows:

§ 52.377 Control strategy: Ozone.

* * * * *

(l) Approval—Revisions to the Connecticut State Implementation Plan (SIP) submitted on December 8, 2006. The SIP revision satisfies the requirement to implement reasonably available control technology (RACT) for sources of volatile organic compounds (VOC) and oxides of nitrogen (NOX) for purposes of the 1997 8-hour ozone standard. Specifically, the following sections of the Regulations of Connecticut State Agencies are approved for this purpose: For VOC RACT, 22a-174-20, Control of Organic Compound Emissions, 22a-174-30, Dispensing of Gasoline/Stage I and Stage II Vapor Recovery, and 22a-174-32, RACT for Organic Compounds; for NOX RACT, 22a-174-22, Control of Nitrogen Oxide Emissions, and 22a-174-38, Municipal Waste Combustors.

[FR Doc. 2013-15299 Filed 6-26-13; 8:45 am]

BILLING CODE 6560-50-P